DEPARTMENT OF COMMERCE

National Oceanic and Atmospheric Administration

[I.D. 042004B]

Marine Mammals; File No. 350-1739

AGENCY: National Marine Fisheries Service (NMFS), National Oceanic and Atmospheric Administration (NOAA), Commerce.

ACTION: Issuance of permit.

SUMMARY: Notice is hereby given that Brendan Kelly, Ph.D., University of Alaska Southeast, 11120 Glacier Highway, Juneau, Alaska 99801 has been issued a permit to conduct research on ringed seals (Phoca hispida) in Alaska.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: On March 17, 2004, notice was published in the Federal Register (69 FR 12643) that a request for a scientific research permit to take ringed seals had been submitted by the above-named individual. The requested permit has been issued under the authority of the Marine Mammal Protection Act of 1972, as amended (16 U.S.C. 1361 et seq.), and the Regulations Governing the Taking and Importing of Marine Mammals (50 CFR part 216).

The purpose of the permitted research is to study the site fidelity, behavior, and ecological significance of home ranges of ringed seals in Alaska through monitoring, capturing, tagging, using video-mounted cameras, and genetics sampling of seals primarily in the Prudhoe Bay, Alaska region of the Beaufort Sea, and also along the coasts of the Bering, Chukchi, and other areas of the Beaufort Sea in Alaska.

In compliance with the National Environmental Policy Act of 1969 (42 U.S.C. 4321 et seq.), a final determination has been made that the activity proposed is categorically excluded from the requirement to prepare an environmental assessment or environmental impact statement.

Dated: April 23, 2004.
Stephen L. Leathery,
Chief, Permits, Conservation and Education Division, Office of Protected Resources, National Marine Fisheries Service.

[FR Doc. 04-9754 Filed 4-28-04; 8:45 am]

BILLING CODE 3510-22-S